FEDERAL ELECTION COMMISSION

11 CFR Part 102

[Notice 2006-17]

Increase in Limitation on Authorized Committees Supporting Other Authorized Committees

AGENCY: Federal Election Commission.

ACTION: Final rules.

SUMMARY: The Federal Election Commission (“Commission”) is amending its rules specifying the amount authorized committees of candidates may contribute to authorized committees of other candidates. The Consolidated Appropriations Act, 2005, amended the Federal Election Campaign Act of 1971, as amended (“the Act”), by increasing this amount from $1,000 to $2,000. These final rules implement this increase. Further information is provided in the supplementary information that follows.

EFFECTIVE DATE: These rules are effective on September 20, 2006.

FOR FURTHER INFORMATION CONTACT: Mr. J. Duane Pugh Jr., Acting Assistant General Counsel, or Mr. Albert J. Kiss, Attorney, 999 E Street, NW., Washington, DC 20463, (202) 694-1650 or (800) 424-9530.

SUPPLEMENTARY INFORMATION:

Explanation and Justification for 11 CFR 102.12(c) and 102.13(c)

Each candidate for Federal office (other than a nominee for Vice President) is required to designate in writing a political committee to serve as the candidate's “principal campaign committee” under the Act and Commission regulations. 2 U.S.C. 432(e)(1) and 431(5); 11 CFR 101.1(a) and 102.12(a). Candidates may also authorize additional political committees to receive contributions or make expenditures on their behalf. 2 U.S.C. 432(e)(1) and 431(6); 11 CFR 101.1(b) and 102.13(a)(1). These political committees are collectively known as the candidate's “authorized committees.” 2 U.S.C. 431(6).

Subject to two exceptions, no political committee that “supports” or has supported more than one candidate may be designated either as a principal campaign committee or as an authorized committee.¹ 2 U.S.C. 432(e)(3)(A); 11 CFR 102.12(c)(1) and 102.13(c)(1). Prior to enactment of the Consolidated Appropriations Act, 2005, Pub. L. 108-447, 118 Stat. 2809 (2004) (“2005 Appropriations Act”), FECA provided that “support” did not include contributions by any authorized committee in amounts of $1,000 or less to an authorized committee of any other candidate. 2 U.S.C. 432(e)(3)(B) (2004). Section 525 of the 2005 Appropriations Act amended 2 U.S.C. 432(e)(3)(B) by increasing this amount to $2,000. 118 Stat. at 3271. To implement this statutory change, the Commission is amending 11 CFR 102.12(c)(2) and 102.13(c)(2) to reflect the increased amount.

¹ One exception allows a candidate for the office of President nominated by a political party to designate the national committee of the political party as the candidate's principal campaign committee. 2 U.S.C. 432(e)(3)(A)(i); 11 CFR 102.12(c)(1). The other exception allows two or more candidates to designate a political committee established solely for the purpose of joint fundraising by such candidates as an authorized committee. 2 U.S.C. 432(e)(3)(A)(ii) and 11 CFR 102.13(c)(1).

The Commission is promulgating these rules without notice or an opportunity for comment (“notice and comment”) because the Administrative Procedure Act's (“APA”) “good cause” exemption allows the Commission to dispense with notice and comment when “impracticable, unnecessary, or contrary to the public interest.” 5 U.S.C. 553(b)(B). Notice and comment are unnecessary when regulations merely restate the statute they implement. Gray Panthers Advocacy Committee v. Sullivan, 936 F.2d 1284, 1291 (D.C. Cir. 1991), citing Komjathy v. National Transportation Safety Board, 832 F.2d 1294, 1296-97 (D.C. Cir. 1987). Because these final rules merely restate the amount limitation in section 432(e)(3)(B), notice and comment are unnecessary and the “good cause” exemption applies to these final rules.

For the same reasons, these final rules are not subject to the APA's thirty-day delayed effective date requirement under the “good cause” exemption to the delayed effective date requirement. 5 U.S.C. 553(d)(3). Thus, the Commission is making these final rules effective immediately upon publication in the Federal Register.

The Commission is submitting these final rules to the Speaker of the House of Representatives and the President of the Senate pursuant to the Congressional Review of Agency Rulemaking Act, 5 U.S.C. 801 et seq., on September 14, 2006.

Certification of No Effect Pursuant to 5 U.S.C. 605(b) (Regulatory Flexibility Act)

The provisions of the Regulatory Flexibility Act are not applicable to these rules because the Commission was not required to publish a notice of proposed rulemaking or to seek public comment under 5 U.S.C. 553 or any other laws. 5 U.S.C. 603(a) and 604(a). Therefore, no regulatory flexibility analysis is required.

List of Subjects in 11 CFR Part 102

Political committees and parties, Reporting and recordkeeping requirements.

For the reasons set out in the preamble, the Federal Election Commission is amending Subchapter A of Chapter I of Title 11 of the Code of Federal Regulations as follows:

PART 102—REGISTRATION, ORGANIZATION, AND RECORDKEEPING BY POLITICAL COMMITTEES (2 U.S.C. 433)

1. The authority citation for part 102 continues to read as follows:

Authority: 2 U.S.C. 432, 433, 434(a)(11), 438(a)(8), 441d.

§ 102.12 [Amended]

2. In § 102.12(b), remove “that” and add in its place “than”.

3. In § 102.12(c)(2), remove “$1,000” and add in its place “$2,000”.

§ 102.13 [Amended]

4. In § 102.13(c)(2), remove “$1,000” and add in its place “$2,000”.

Dated: September 14, 2006.
Michael E. Toner,
Chairman, Federal Election Commission.

[FR Doc. E6-15565 Filed 9-19-06; 8:45 am]

BILLING CODE 6715-01-P